DEPARTMENT OF HEALTH AND HUMAN SERVICES

Agency for Healthcare Research and Quality

Medicare Prescription Drug, Improvement, and Modernization Act of 2003 Section 1013: Request for Nominations—The Effective Health Care Stakeholder Group

AGENCY: Agency for Healthcare Research and Quality (AHRQ), DHHS.

ACTION: Notice of invitation to submit nominations for the Effective Health Care Stakeholder Group.

SUMMARY: The DHHS Agency for Healthcare Research and Quality (AHRQ) invites nominations from interested organizations and knowledgeable individuals for members of the Stakeholder Group to support the work of the Effective Health Care Program, established [for consultation] pursuant to Section 1013 of the Medicare Prescription Drug, Improvement, and Modernization Act (MMA) of 2003. The goals of this program are to develop evidence on the effectiveness and comparative effectiveness of different treatments and health care interventions of importance to the Medicare, Medicaid, and State Child Health Insurance programs. To achieve these goals, AHRQ supports projects to review, synthesize, generate, and translate scientific evidence, as well as identify important issues for which existing scientific evidence is insufficient to inform decisions about health care. The Effective Health Care Program makes the evidence information it develops readily available to health care decision makers. The Stakeholder Group is critical to the success of the Effective Health Care Program by providing input to improve the applicability and relevance of research products to health care decision makers. The Effective Health Care Program Stakeholder Group will be a part of the Citizen's Forum initiative, funded by the American Recovery and Reinvestment Act, to formally and broadly engage stakeholders, and to enhance and expand public involvement in the entire Effective Health Care enterprise.

The role of the Stakeholder Group will be to:

• Provide guidance on program implementation including:

i. Quality improvement.

ii. Opportunities to maximize impact and expand program reach.

iii. Ensuring stakeholder interests are considered and included.

iv. Evaluating success.

• Provide input on implementing Effective Health Care Program reports and findings in practice and policy settings.

• Identify options and recommend solutions to issues identified by Effective Health Care Program staff.

• Provide input on critical research information gaps for practice and policy, as well as research methods to address them. Specifically:

i. Information needs and types of products most useful to consumers, clinicians and policy makers.

ii. Feedback on Effective Health Care Program reports, reviews and summary guides.

iii. Scientific methods and applications.

• Champion objectivity, accountability and transparency in the Effective Health Care program.

Members will serve as volunteers for a two-year period from summer 2010 through summer 2012. Stakeholder Group members will attend 3-4 meetings per year in Rockville, MD, and possibly other cities to be determined. Meetings will be 1-2 days in length, and AHRQ or a group designated by AHRQ will be responsible for travel planning and expenses. The first meeting will be held in late summer or early fall 2010 in Rockville, MD.

Members are expected to actively participate in meetings and to engage in related activities by phone and e-mail between meetings. Between-meeting work may include reviewing and providing input on the overall product development strategy and direction for the Effective Health care program, consulting with AHRQ staff on constituency issues, and serving as a resource to the Program. It is anticipated that the Stakeholder Group member time commitment between meetings will not exceed 10 hours.

The Stakeholder Group will be composed of up to 20 members with a diversity of perspectives and opinions. The group will represent several broad constituencies of stakeholders and decision-makers at the policy, system, and clinical levels, which will include:

• Patient/caregiver/consumer.

• Consumers of Federal and State beneficiary programs.

• Healthcare providers.

• Third party healthcare payers (including, but not limited to public State or Federal Medicare or Medicaid programs, and private insurance health plans and Health Maintenance Organizations).

• Employers and health-related businesses.

• Pharmacy and therapeutic committees.

• Healthcare, industry, and professional organizations.

• Academic researchers (including, but not limited to, those with expertise in evidence-based methods and effectiveness and translational research).

Self-nominations are encouraged. Materials to be submitted include a cover letter and curriculum vitae or similar supportive documentation. The cover letter should provide information on how the nominee's experience, skills and roles would help to reflect the diverse perspectives and expertise of the group and help to address the functions and goals of the Stakeholder Group as described above. Specific information on nominee experience in the constituency groups described above is required. If nominating a second party, a statement of the nominee's permission and willingness to serve must be provided. Nominees chosen for the Stakeholder Group will be required to declare and submit conflict of interest documentation. Nominees may indicate their willingness to be considered in subsequent calls for nominations if not selected for this Stakeholder Group.

All nominations received by the submission deadline will be reviewed by a committee composed of representatives from AHRQ. Nominees who best represent the broad constituencies sought for composition of the Stakeholder Group as described above, will be selected and notified by May 7, 2010.

DATES: Nominations for the Effective Health Care Stakeholder Group must be received by February 8, 2010.

ADDRESSES: Nominations for consideration may be e-mailed to EffectiveHealthCare@AHRQ.gov.

FOR FURTHER INFORMATION CONTACT: Effective Health Care Program at (301) 427-1502 or EffectiveHealthCare@AHRQ.gov.

More information about the Effective Health Care Program is available at http://www.EffectiveHealthCare.AHRQ.gov.

SUPPLEMENTARY INFORMATION: Nominees not selected for the Stakeholder Group are invited to participate in the Effective Healthcare Program by making suggestions for research and providing comment on key questions and draft reviews. A listserv has been established and everyone interested may join to be notified when items become available for review or public comment. Opportunities for involvement in the Effective Health Care Program are described at http://www.EffectiveHealthCare.AHRQ.gov.

Dated: December 22, 2009.
Carolyn M. Clancy,
Director.

[FR Doc. E9-31341 Filed 1-6-10; 8:45 am]

BILLING CODE 4160-90-M